DEPARTMENT OF THE INTERIOR

Fish and Wildlife Service

Endangered and Threatened Species Permit Applications

ACTION: Notice of Receipt of Applications

SUMMARY: The following applicants have applied for a permit to conduct certain activities with endangered species. This notice is provided pursuant to section 10(a) of the Endangered Species Act of 1973, as amended (16 U.S.C. 1531, et seq.).

Permit No. TE—10472

Applicant: Geo-Marine, Newport News, Virginia

Applicant requests authorization for recovery purposes to conduct presence/absence surveys for the southwestern willow flycatcher (Empidonax traillii extimus) in Arizona, New Mexico, and Texas.

Permit No. TE—034087

Applicant: University of New Mexico, Dept. of Biology, Albuquerque, New Mexico

Applicant requests authorization to conduct activities for research and recovery purposes for the Comanche Springs pupfish (Cyprinodon elegans) and the Leon Springs pupfish (Cyprinodon bovinus).

Permit No. TE—34960

Applicant: Arizona Department of Transportation-Natural Resources, Phoenix, Arizona

Applicant requests authorization to conduct presence/absence surveys for the cactus ferruginous pygmy-owl (Glaucidium brasilianum cactorum) and the southwestern willow flycatcher (Empidonax traillii extimus) in Arizona on Department of Transportation right-of-ways.

Permit No. TE—35179

Applicant: Denis P. Humphrey, Show Low, Arizona

Applicant requests authorization for recovery purposes to conduct presence/absence surveys for the cactus ferruginous pygmy-owl (Glaucidium brasilianum cactorum) on Bureau of Reclamation lands in central and south central Arizona.

DATES: Written comments on these permit applications must be received on or before December 26, 2000.

ADDRESSES: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents before December 26, 2000, to the address above.

Stephen C. Helfert,
Assistant Regional Director, Ecological Services, Region 2, Albuquerque, New Mexico.

[FR Doc. 00-30019 Filed 11-22-00; 8:45 am]

BILLING CODE 4310-55-P